ENVIRONMENTAL PROTECTION AGENCY

40 CFR Part 52

[EPA-R01-OAR-2023-0235; FRL-12018-01-R1]

Air Plan Approval; Connecticut; Plan for Inclusion of a Consent Order and Removal of State Orders

AGENCY: Environmental Protection Agency (EPA).

ACTION: Proposed rule.

SUMMARY: The Environmental Protection Agency (EPA) is proposing to approve a State Implementation Plan (SIP) revision submitted by the Connecticut Department of Energy and Environmental Protection (CT DEEP) to (1) remove State Order 7002B issued to Dow Chemical USA (Dow) in Gales Ferry on May 25, 1982 from the Connecticut SIP, (2) remove State Order 2087 issued to Pratt & Whitney Division of United Technologies Corporation (Pratt & Whitney) in North Haven on March 22, 1989 from the Connecticut SIP, and (3) add Consent Order 8381 issued to Thames Shipyard and Repair Company (Thames Shipyard) in New London, CT on December 3, 2021, to the Connecticut SIP. State Orders 2087 and 7002B addressed reasonably available control technology (RACT) for volatile organic compound (VOC) emissions and sulfur fuel content limits for Pratt & Whitney and Dow, respectively. Approving the Thames Shipyard Order into Connecticut's SIP would ensure RACT requirements with respect to VOC emissions from shipbuilding and repair operations continue to be implemented at Thames Shipyard. This action is being taken under the Clean Air Act.

DATES: Written comments must be received on or before July 8, 2024.

ADDRESSES: Submit your comments, identified by Docket ID No. EPA-R01-OAR-2023-0235 at https://www.regulations.gov, or via email to kosin.michele@epa.gov. For comments submitted at Regulations.gov, follow the online instructions for submitting comments. Once submitted, comments cannot be edited or removed from Regulations.gov. For either manner of submission, the EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, please contact the person identified in the FOR FURTHER INFORMATION CONTACT section. For the full EPA public comment policy, information about CBI or multimedia submissions, and general guidance on making effective comments, please visit https://www.epa.gov/dockets/commenting-epa-dockets. Publicly available docket materials are available at https://www.regulations.gov or at the U.S. Environmental Protection Agency, EPA Region 1 Regional Office, Air and Radiation Division, 5 Post Office Square—Suite 100, Boston, MA. EPA requests that, if at all possible, you contact the contact listed in the FOR FURTHER INFORMATION CONTACT section to schedule your inspection. The Regional Office's official hours of business are Monday through Friday, 8:30 a.m. to 4:30 p.m., excluding legal holidays and facility closures due to COVID-19.

FOR FURTHER INFORMATION CONTACT: Michele Kosin, Physical Scientist, Air Quality Branch, Air & Radiation Division (Mail Code 5-MI), U.S. Environmental Protection Agency, Region 1, 5 Post Office Square, Suite 100, Boston, Massachusetts 02109-3912; (617) 918-1175; kosin.michele@epa.gov.

SUPPLEMENTARY INFORMATION:

Throughout this document whenever “we,” “us,” or “our” is used, we mean EPA.

Table of Contents

I. Background and Purpose

II. Description and Review of Submittals

III. Proposed Action

IV. Incorporation by Reference

V. Statutory and Executive Order Reviews

I. Background and Purpose

On February 8, 1983 (48 FR 5723), EPA approved Connecticut Source-Specific State Order 7002B into the SIP. State Order 7002B, which controls SO2 emissions from combustion equipment by limiting fuel sulfur content, was issued to Dow on May 24, 1982. State Order 7002B is no longer necessary because most of the regulated equipment has been removed from the property and the remaining equipment is subject to more stringent regulatory requirements than those established in the Order. On May 25, 2016 (81 FR 33134), EPA approved a SIP revision submitted by the State of Connecticut on April 22, 2014 (which included supplemental submittals submitted on June 18, 2015, and September 25, 2015). The May 25, 2016, rulemaking established sulfur in fuel oil content limits for use in stationary sources. In addition, the rulemaking included a revision to the sampling and emission testing methods for sulfur content in liquid fuels. A sulfur in fuel limit for use in stationary sources was previously 0.5% sulfur by weight as required on or after January 1, 2002, but this limit was superseded by the more stringent fuel limits (0.3% Sulfur, by weight) required under Sec-19a (e) in the Regulations of Connecticut State Agencies (RCSA) Section 22a-174-19a (Sec-19a).¹

¹ RCSA Section 22a-174-19a (c) required a sulfur in fuel limit (0.5% sulfur, by weight) on or after January 1, 2002. The May 25, 2016, SIP revision removed the requirement at Sec-19a (c) and established the more stringent limit at Sec-19a (e). See 81 FR 33134.

State Order 8027, a single-source VOC RACT order, was issued on March 22, 1989, to Pratt & Whitney. On May 30, 1989 (54 FR 22890), EPA approved Connecticut Source-Specific State Order 8027 into the SIP. However, State Order 8027 is no longer necessary to implement RACT because the equipment subject to the Order has been removed from the property. The Order was rescinded by CT DEEP on November 8, 2016.

On December 3, 2021, the CT DEEP issued Consent Order 8381 to Thames Shipyard. Consent Order 8381 requires source-specific VOC RACT to addresses VOC emissions from miscellaneous metal and plastic parts coating operations.

On May 31, 2022, the CT DEEP proposed to revise the Connecticut SIP by removing State Orders 7002B and 8027 and adding Consent Order 8381 to the Connecticut SIP. In accordance with 40 CFR 51.102, to demonstrate satisfaction of federal public participation requirements, public notice of this proposed action was published on the CT DEEP website on June 6, 2022. Copies of the notice were mailed electronically on June 8, 2022, to the directors of the air pollution agencies in New York, New Jersey, Rhode Island, and Massachusetts, along with a copy to the Director of the Air & Radiation Division of Region 1 of the U.S. Environmental Protection Agency. In accordance with the public notice requirements, materials were available for review on the CT DEEP website. The public hearing scheduled for July 7, 2022, was cancelled because no one requested a hearing by the July 6, 2022, deadline. In accordance with the notice, the comment period was open through July 5, 2022. No comments were received. On July 19, 2022, the CT DEEP submitted the proposed SIP revision to EPA.

On February 14, 2024, CT DEEP submitted a partial revision to its July 2022 SIP submission by removing the last clause of the last sentence of paragraph B.21 from Consent Order 8381 from consideration as a SIP measure. CT DEEP removed the last clause of the notification of noncompliance which states, “unless specifically so stated by the Commissioner in writing.”

II. Description and Review of Submittals

State Order #7002B Issued to Dow

CT DEEP issued State Order #7002B to Dow on May 24, 1982, to limit sulfur dioxide emissions from fuel burning sources located at the facility in Gales Ferry. The Order limited the sulfur content of fuel combusted in the units to 1% by weight. The Order also prohibited the concurrent operation of the Wickes boilers (E7C and E7D). During an inspection conducted by CT DEEP on April 20, 2022, it was determined that Heat Transfer Media Heater EA and EB, Cyclotherm Boilers E7A and E7B, and Wickes Boilers E7C and E7D had all been decommissioned and removed from the premises. Dowtherm Heater A and Dowtherm Heater B remain onsite and are owned and operated by Americas Styrenics, LLC. The Dowtherm heaters are identified as EU-1 and EU-2 in Americas Styrenics, LLC's Title V permit (Permit #092-0027-TV).

On May 25, 2016 (81 FR 33134), EPA approved a SIP revision submitted by the State of Connecticut on April 22, 2014 (which included supplemental submittals submitted on June 18, 2015, and September 25, 2015). This revision established a more stringent sulfur in fuel oil content limit of 0.3% sulfur by weight for use in stationary sources (RCSA Sec-19a (e)), which superseded the previous limit of 0.5% sulfur by weight under RCSA Sec-19a (c). The revision also incorporated new provisions under RCSA section 22a-174-19b (Sec-19b) “Fuel Sulfur content Limitations for Stationary Sources” that limited the fuel sulfur content of distillate oil to 0.0015% by weight and residual oil to 0.3% by weight. Therefore, these regulations contained more stringent limits than the limit specified in State Order 7002B. In addition, the submittal included a more recent version of the American Society for Testing and Materials (ASTM) test method D4294 and automatic sampling equipment conformance to ASTM test method D4177-82 for sulfur content in liquid fuels. On April 28, 2022, the Connecticut DEEP's Enforcement Division of the Bureau of Air Management reviewed the information regarding State Order Number 7002B and determined that the Order was obsolete. Order 7002B was determined no longer necessary because most of the subject equipment had been removed from the property and the remaining equipment was subject to more stringent regulatory requirements than those established in the Order. Accordingly, the Connecticut DEEP rescinded the Order on April 28, 2022.

State Order 8027 Issued to Pratt & Whitney

State Order 8027, a single-source VOC RACT Order, was issued by CT DEEP on March 22, 1989, to Pratt & Whitney with requirements for the use of vapor degreasers and solvent cleaning at its facility in North Haven. During an inspection conducted on October 6, 1995, CT DEEP determined that there was no vapor or conveyorized degreasers in service at the facility. Subsequently, Pratt & Whitney sold the property on December 31, 2001, and ceased all operations at the facility on December 31, 2002. During an inspection conducted on June 6, 2012, the CT DEEP confirmed that the site appeared to be abandoned because the building and parking lot were in disrepair, the landscaping was overgrown, and the entrance was gated and padlocked. Accordingly, State Order 8027 is no longer necessary because the subject equipment has been removed from the property, and the Order was rescinded by CT DEEP on October 8, 2016.

Consent Order No. 8381 Issued to Thames Shipyard

Thames Shipyard conducts ship building and repair operations at its facility in New London. Thames Shipyard is classified as a major source of HAP for the Shipbuilding and Ship Repair Surface Coating National Emission Standards for Hazardous Air Pollutants, at 40 CFR 63 Subpart II (“Shipbuilding NESHAP”) and is subject to the emission control requirements promulgated in the Shipbuilding NESHAP. However, Thames Shipyard can accept an enforceable limit on its potential to emit and apply to the state regulatory authority to be reclassified from a NESHAP major source to an area source.2 3 If Thames Shipyard is reclassified as an area source of HAP, it must satisfy the requirements of Connecticut's RACT rule for the miscellaneous metal and plastic parts coating source category at Section 22a-174-20(s). Therefore, Thames Shipyard requested the VOC content limits set forth in the Shipbuilding NESHAP to be issued as a state-issued consent order for incorporation into the SIP. In response to this request, CT DEEP issued Consent Order 8381 on December 3, 2021, which ensures that the VOC emissions from shipbuilding and repair operations at Thames Shipyard continue to be no less stringent than the NESHAP requirements and consistent with the EPA Control Techniques Guidelines (CTG) for Shipbuilding and Ship Repair Operations (Surface Coating) published August 27, 1996 (61 FR 44050).

² See EPA's November 19, 2020 final rulemaking titled “Reclassification of Major Sources as Area Sources Under Section 112 of the Clean Air Act”. 85 FR 73854.

³ Thames Shipyard has accepted federally enforceable permit limits to its facility-wide potential-to-emit to below major source thresholds. See CT DEEP NSR Permit Nos. 128-0062 and 128-0063 in the administrative docket for this action.

On February 14, 2024, CT revised its SIP submission to remove the last clause of the last sentence of paragraph B.21 of Consent Order 8381 from consideration as a SIP measure. Specifically, CT DEEP removed the last clause of the notification of noncompliance which states, “unless specifically so stated by the Commissioner in writing.” This phrase was removed because SIP-approved requirements cannot be open-ended and later arbitrarily established or waived by the state.

The information provided by Thames Shipyard indicated that the identified shipbuilding coatings are necessary to protect ships from corrosion. As shown in Table 1 below, the VOC content limit for each coating category in Consent Order 8381 is no greater than the analogous limit in the Shipbuilding NESHAP and CTG. Consent Order 8381 also grants the use of the thinning formula prescribed in the Shipbuilding NESHAP in lieu of the formula found in Section 22a-174-20(s)(9)(A) of the RCSA. According to Thames Shipyard, the thinner formula prescribed in Section 22a174-20(s) of the RCSA fails to address the use of the thinner outdoors under cold conditions. Because the formula prescribed in the Shipbuilding NESHAP (Equation 1 in 40 CFR 63.785(c)(2)) considers the solids content of the batch, this formula is more appropriate for Thames Shipyard than the formula prescribed in Section 22a-174-20(s)(9)(A) of the RCSA when determining the maximum allowable thinning ratio or ratios to be applied at the facility, as the facility repairs ships year-round and outdoors. Because this calculation method is based upon the methodology at 40 CFR 63.785, this provision would achieve no less than the level of VOC emission control as provided for in the Shipbuilding NESHAP.

The VOC content limits for each coating category is no greater than the analogous limit in the Shipbuilding NESHAP and CTG. Table 1 below summarizes the comparison between the VOC content limits for the Shipbuilding NESHAP and CTG in each coating category. As demonstrated in Table 1 below, the requirements in Consent Order 8381 with respect to VOC limits are consistent with the limits in the Shipbuilding NESHAP and CTG, and achieve the same or a more stringent level of emission control as the Shipbuilding NESHAP and CTG.

Table 1—Comparison of Shipbuilding NESHAP Volatile Organic Compound (VOC) Content Limits and the Control Techniques Guideline (CTG) VOC Content Limits With Respect to the VOC Content Limits for Thames Shipyard & Repair Company
Coating category | Shipbuilding NESHAP VOC content limits (grams/liter of coating) | Shipbuilding & repair CTG VOC content limits (grams/liter of coating) | RACT Order 8381 for Thames Shipyard & Repair Company VOC content limits (grams/liter of coating)
General Use inventory | 340 | 340 | 340
High-Gloss | 420 | 420 | 420
Antifoulant | 400 | 400 | 400
Nonskid | 340 | 340 | 340
Organic Zinc | 360 | 360 | 360
Pretreatment Wash Primer | 780 | 780 | 780
High-Temperature | 500 | 500 | 500
Heat Resistant | 420 | 420 | 420
Inorganic Zinc High-Build | 360 | 340 | 340

To further analyze whether Consent Order No. 8381 issued to Thames Shipyard adequately implements RACT, EPA reviewed multiple potential VOC control requirements that might apply to shipbuilding and repair operations, which were drawn from EPA's own guidance and regulations, Ozone Transport Commission (OTC) model rules and guidelines,⁴ and neighboring states' regulatory requirements. EPA's relevant CTG and NESHAP requirements have not changed since August 27,1996 (61 FR-44050) and November 21, 2011 (76 FR 72050), and were evaluated against other regulations to ensure Consent Order 8381 adequately implements RACT. EPA was unable to identify any OTC model rules or guidelines for implementing RACT with respect to VOC emissions for this category of operations.

⁴ Ozone Transport Commission. Model Rules and Guidelines. Retrieved January 3, 2024, https://otcair.org/materials/model-rules-and-guidelines.

With respect to neighboring states' requirements, Massachusetts has source-specific requirements for Boston Ship Repair, LLC, that are in accordance with the NESHAP for Shipbuilding and Ship Repair in 40 CFR part 63 subpart II. Rhode Island issued a single source RACT order for US Watercraft, LLC in Warren, Rhode Island, which was approved as implementing RACT for VOC emissions by EPA on September 21, 2017 (82 FR 44103). Massachusetts and Rhode Island requirements very closely mimic the EPA CTG and NESHAP requirements and collectively contain as many as twenty-two specialty coating categories with VOC content limits ranging from 340 to 780 grams of VOC per liter of coating, as well as a general use limit of 340 grams of VOC per liter of coating. To compare, the Connecticut Order for Thames Shipyard contains eight specialty coating categories with VOC content limits ranging from 340 to 780 grams of VOC per liter of coating and a general use VOC limit of 340 grams of VOC per liter of coating.

New York added Title 6 NYCRR Part 228 to its SIP on January 23, 2004 (69 FR 3237) and re-certified that state regulation as implementing RACT with respect to VOC emissions on November 9, 2023 (88 FR 77208). New York's requirements are different in character in that they primarily pertain to “pleasure craft” which are smaller, non-commercial, recreational type vessels, whereas the EPA CTG and NESHAP shipbuilding and repair operations address larger ships, barges, and other vessels for military and commercial use. Since New York's regulation focuses on pleasure craft, it lacks some of the specialty coating requirements for shipbuilding repair. The New York regulation contains seven specialty coating categories with VOC content limits ranging from 330 to 780 grams of VOC per liter of coating and a general use category VOC content limit of 420 grams of VOC per liter of coating. Finally, New Jersey made a negative declaration for the shipbuilding and ship repair CTG category on October 9, 2018 (83 FR 50506), which indicates they have no relevant operations. Therefore, a review of CT's limits as compared to neighboring states with similar regulations indicates that CT's limits are the same or more stringent than the limits prescribed by neighboring states, including Massachusetts, New York, New Jersey, and Rhode Island.

EPA has reviewed the CT DEEP SIP submittal with respect to Consent Order No. 8381 issued to Thames Shipyard and proposes to determine that the VOC stationary source controls requirements in the Consent Order implement RACT and we are therefore proposing to approve the addition of Consent Order into the CT SIP.

Clean Air Act Subsection 110(l) and Section 193 Compliance

Subsection 110(l) of the CAA is referred to as the “anti-backsliding” provision because the subsection prohibits EPA from approving a revision of a plan if the revision would interfere with any applicable requirement in the chapter, including reasonable further progress and attainment of the national ambient air quality standards. Similarly, section 193 of the CAA prohibits EPA from modifying control requirements in effect before November 15, 1990, unless the modification insures equivalent or greater emission reductions. EPA is proposing to determine that CAA sections 110(l) and 193 are not implicated by this action because the Orders proposed to be removed from the CT SIP no longer control sources of VOC or SO2 emissions, and the Order we are proposing to add to the CT SIP would ensure equivalent or greater emission reductions when compared to the current CT SIP.

As explained above, the Dow units subject to State Order #7002B were decommissioned and removed, and the low-sulfur fuel oil requirements that now apply to the other units still present at the facility are currently required by a statewide regulation, which was approved into the CT SIP on May 25, 2016 (81 FR 33134). Also as explained above, the Pratt & Whitney vapor degreasers and solvent cleaning equipment described in State Order 8027 have been removed from the property, and Pratt & Whitney sold the property on December 31, 2001, and ceased all operations at the facility on December 31, 2002. With regard to adding Consent Order 8381 issued to the Thames Shipyard to the SIP, as explained above, the requirements in Consent Order 8381 implement RACT for VOC emissions and achieve no less VOC control as compared to the existing NESHAP regulations currently applicable to the facility. Therefore, EPA proposes that the SIP revision complies with subsection 110(l) and section 193 of the CAA because the revision ensures equivalent or greater emission reductions when compared to the current CT SIP and the equipment subject to State Order #7002B and 8027 has been decommissioned and is no longer in use.

III. Proposed Action

EPA is proposing to approve the CT DEEP's request to revise the Connecticut SIP to (1) remove State Order 7002B issued to Dow Chemical USA in Gales Ferry on May 25, 1982 from the Connecticut SIP, (2) remove State Order issued to Pratt & Whitney Division of United Technologies Corporation in North Haven on March 22, 1989 from the Connecticut SIP, and (3) add Consent Order 8381issued to Thames Shipyard and Repair Company in New London on December 3, 2021, to the Connecticut SIP, with the exception of the language that was removed from the proposed SIP revision on February 14, 2024 as described above.

EPA is soliciting public comments on the issues discussed in this notice and other relevant considerations. These comments will be considered before taking final action. Interested parties may participate in the Federal rulemaking procedure by submitting written comments to this proposed rule by following the instructions listed in the ADDRESSES section of this Federal Register.

IV. Incorporation by Reference

In this rule, the EPA is proposing to include in a final EPA rule regulatory text that includes incorporation by reference. In accordance with requirements of 1 CFR 51.5, the EPA is proposing to incorporate by reference RACT Order Consent Order 8381, dated December 3, 2021, which establishes VOC RACT requirements for Thames Shipyard and Repair Company. In this rule, the EPA is proposing to remove a single-source VOC RACT Order 2087 issued to Pratt & Whitney Division of United Technologies Corporation, in North Haven, Connecticut, which was approved by EPA into the SIP on May 30, 1989 (54 FR 22890) and State Order 7002B, issued to Dow Chemical USA, in Gales Ferry, Connecticut, which was approved by EPA into the SIP on February 8, 1983 (48 FR 5723) because the regulated activities have ceased operation and no longer exist. The proposed changes are described in sections I. and II. of this document. The EPA has made, and will continue to make, these documents generally available through https://www.regulations.gov and at the EPA Region 1 Office (please contact the person identified in the FOR FURTHER INFORMATION CONTACT section of this preamble for more information).

V. Statutory and Executive Order Reviews

Under the Clean Air Act, the Administrator is required to approve a SIP submission that complies with the provisions of the Act and applicable Federal regulations. See 42 U.S.C. 7410(k); 40 CFR 52.02(a). Thus, in reviewing SIP submissions, EPA's role is to approve state choices, provided that they meet the criteria of the Clean Air Act. Accordingly, this proposed action merely approves state law as meeting Federal requirements and does not impose additional requirements beyond those imposed by state law. For that reason, this proposed action:

• Is not a significant regulatory action subject to review by the Office of Management and Budget under Executive Orders12866 (58 FR 51735, October 4, 1993) and 13563 (76 FR 3821, January 21, 2011);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

• In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

Executive Order 12898 (Federal Actions To Address Environmental Justice in Minority Populations and Low-Income Populations, 59 FR 7629, Feb. 16, 1994) directs Federal agencies to identify and address “disproportionately high and adverse human health or environmental effects” of their actions on minority populations and low-income populations to the greatest extent practicable and permitted by law. EPA defines environmental justice (EJ) as “the fair treatment and meaningful involvement of all people regardless of race, color, national origin, or income with respect to the development, implementation, and enforcement of environmental laws, regulations, and policies.” EPA further defines the term fair treatment to mean that “no group of people should bear a disproportionate burden of environmental harms and risks, including those resulting from the negative environmental consequences of industrial, governmental, and commercial operations or programs and policies.”

The CT DEEP did not evaluate environmental justice considerations as part of its SIP submittal; the CAA and applicable implementing regulations neither prohibit nor require such an evaluation. EPA did not perform an EJ analysis and did not consider EJ in this action. Due to the nature of the action being taken here, this action is expected to have a neutral to positive impact on the air quality of the affected area. Consideration of EJ is not required as part of this action, and there is no information in the record inconsistent with the stated goal of E.O. 12898 of achieving environmental justice for people of color, low-income populations, and Indigenous peoples.

List of Subjects in 40 CFR Part 52

Environmental protection, Air pollution control, Incorporation by reference, Ozone, Reporting and recordkeeping requirements, Volatile organic compounds.

Dated: June 3, 2024.
David Cash,
Regional Administrator, EPA Region 1.

[FR Doc. 2024-12516 Filed 6-6-24; 8:45 am]

BILLING CODE 6560-50-P